ENVIRONMENTAL PROTECTION AGENCY

40 CFR Part 60

[EPA-HQ-OAR-2006-0699; FRL-8336-2]

RIN 2060-AN71

Standards of Performance for Equipment Leaks of VOC in the Synthetic Organic Chemicals Manufacturing Industry; Standards of Performance for Equipment Leaks of VOC in Petroleum Refineries

AGENCY: Environmental Protection Agency (EPA).

ACTION: Notice of Data Availability (NODA).

SUMMARY: EPA is issuing this NODA in support of the proposed rule published on November 7, 2006, entitled Standards of Performance for Equipment Leaks of VOC in the Synthetic Organic Chemicals Manufacturing Industry; Standards of Performance for Equipment Leaks of VOC in Petroleum Refineries. EPA received a number of comments on the proposed rule and is in the process of evaluating those comments. This NODA addresses new data collected and analyses conducted in response to comments that EPA received concerning the impacts of the proposed monitoring provisions for open-ended lines and valves.

We are seeking comment only on the impacts of the proposed monitoring provisions for open-ended lines and valves at synthetic organic chemical manufacturing sources and petroleum refineries. We do not intend to respond to new comments addressing any other aspect of the proposed rule.

DATES: Comments must be received on or before August 8, 2007.

ADDRESSES: Submit your comments, identified by Docket ID No. EPA-HQ-OAR-2006-0699, by one of the following methods:

• http://www.regulations.gov: Follow the on-line instructions for submitting comments.

• E-mail: a-and-r-docket@epa.gov.

• Fax: (202) 566-1741.

• Mail: EPA Docket Center (6102T), Docket ID No. EPA-HQ-OAR-2006-0699, 1200 Pennsylvania Ave., NW., Washington, DC 20460. Please include a total of two copies. In addition, please mail a copy of your comments on information collection provisions to the Office of Information and Regulatory Affairs, Office of Management and Budget, Attn: Desk Officer for EPA, 725 17th St., NW., Washington, DC 20503.

• Hand Delivery: In person or by courier, deliver comments to: EPA Docket Center (6102T), EPA West Building, Room 3334, 1301 Constitution Ave., NW., Washington, DC. Such deliveries are only accepted during the Docket's normal hours of operation, and special arrangements should be made for deliveries of boxed information.

Instructions: Direct your comments on the NODA to Docket ID No. EPA-HQ-OAR-2006-0699. EPA's policy is that all comments received will be included in the public docket(s) without change and may be made available online at www.regulations.gov, including any personal information provided, unless the comment includes information claimed to be confidential business information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the www.regulations.gov index. Although listed in the index, some information may not be publicly available, e.g., CBI or other information whose disclosure is restricted by statute. Certain other material, such as copyrighted material will be publicly available only in hard copy. Publicly available docket materials are available either electronically through www.regulations.gov or in hard copy at the EPA Docket Center, EPA West Building, Room 3334, 1301 Constitution Ave., NW., Washington, DC. The Public Reading Room is open from 8:30 a.m. to 4:30 p.m., Monday through Friday, excluding legal holidays. The telephone number for the Public Reading Room is (202) 566-1744, and the telephone number for the EPA Docket Center is (202) 566-1742.

To expedite review of your comments by Agency staff, you are encouraged to send a separate copy of your comments, in addition to the copy you submit to the official docket, to Ms. Karen Rackley, identified in the FOR FURTHER INFORMATION CONTACT section.

FOR FURTHER INFORMATION CONTACT: Ms. Karen Rackley, U.S. EPA, Office of Air Quality Planning and Standards, Sector Policies and Programs Division, Coatings and Chemicals Group (E143-01), Research Triangle Park, NC 27711; telephone number: (919) 541-0634; e-mail address: rackley.karen@epa.gov.

SUPPLEMENTARY INFORMATION: Submitting CBI. Do not submit information that you consider to be CBI electronically through www.regulations.gov or e-mail. Send or deliver information identified as CBI only to the following address: Roberto Morales, OAQPS Document Control Officer (C404-02), U.S. EPA, Office of Air Quality Planning and Standards, Research Triangle Park, NC 27711, Attention Docket ID EPA-HQ-OAR-200-0699. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

If you have any questions about CBI or the procedures for claiming CBI, please consult the person identified in the FOR FURTHER INFORMATION CONTACT section.

Worldwide Web (WWW). In addition to being available in the docket, an electronic copy of the proposed rule published on November 7, 2006, is available on the WWW through the Technology Transfer Network (TTN). A copy of the proposed rule is posted on the TTN's policy and guidance page for newly proposed or promulgated rules at http://www.epa.gov/ttn/oarpg. The TTN provides information and technology exchange in various areas of air pollution control.

Outline. The information presented in this NODA is organized as follows:

I. Background

II. Proposed Amendments to Requirements for Open-Ended Lines and Valves

A. What are the proposed amendments for open-ended lines and valves?

B. What new information is EPA making available for review and comment?

C. What additional supporting data or documentation do I need to provide with my comments?

I. Background

In November 2006, pursuant to Clean Air Act (CAA) section 111(b), EPA proposed amendments to Standards of Performance for Equipment Leaks of VOC in the Synthetic Organic Chemicals Manufacturing Industry (40 CFR part 60, subpart VV) and Standards of Performance for Equipment Leaks of VOC in Petroleum Refineries (40 CFR part 60, subpart GGG). See 71 FR 65302, November 7, 2006. In developing the proposed amendments, EPA used the best available data that it had before it at the time. Detailed background information describing the proposed rulemaking can be found in the preamble to the proposed rule and in the docket in support of that rule.

During the public comment period, EPA received comments that the supporting documentation in the docket did not provide estimated impacts of the proposed annual monitoring provisions for open-ended lines and valves. To address this issue, we have reviewed data collected by Agency inspectors regarding the percentage of leaking open-ended lines and valves at petroleum refineries and chemical manufacturing facilities. We also collected screening values for the leaking open-ended lines and valves at petroleum refineries. We used this information to estimate cost and emission reduction impacts for monitoring at the proposed frequency as well as at alternative monitoring frequencies. We will consider only comments, data or information related to data, and procedures used in the impacts analysis. We do not intend to respond to new comments addressing any other aspect of the proposed amendments.

All the monitoring data and details of the procedures used in the impacts analysis discussed in this NODA are available at the EPA Docket Center described in the ADDRESSES section of this preamble.

II. Proposed Amendments to Requirements for Open-Ended Lines and Valves

A. What are the proposed amendments for open-ended lines and valves?

Subpart VV (and subpart GGG, which references subpart VV) currently requires open-ended lines and valves to be equipped with a cap, plug, blind flange, or a second valve. As discussed in the preamble to the proposed amendments, inspections conducted by enforcement agencies have found that many of these components are leaking due to improper installation. In order to reduce these emissions and increase compliance with the requirement to properly install the control equipment, we proposed an amendment that would require annual monitoring using Method 21 in 40 CFR part 60, appendix A. An instrument reading of 500 parts per million (ppm) or greater would be considered a leak. As with other leaking equipment, repair would be required within 15 days after detection of the leak. Examples of repair attempts include tightening or replacing the cap, plug, blind flange, or second valve. Records of all monitoring results, each leak detected, and each repair attempted also would be required. Documentation of the total number of leaks and the number for which repair was delayed would be required in semiannual reports.

B. What new information is EPA making available for review and comment?

We are making available open-ended line monitoring data from enforcement agencies. We are also providing estimates of emission reductions and cost impacts for the proposed annual monitoring requirement as well as for more frequent monitoring scenarios. Separate analyses were conducted for petroleum refineries and chemical manufacturing facilities. A summary of the new data and the impacts analysis is presented below. Additional information is in the docket, including the data and documents referred to in the impacts analysis.

Inspectors from EPA's National Enforcement Investigations Center (NEIC) monitored open-ended lines at 16 petroleum refineries. Instrument readings were collected from open-ended lines on an average of 3.5 process units per refinery. On average, 10 open-ended lines were found to be leaking at greater than 500 ppm per refinery (or 2.86 leaking per process unit). All of the monitored process units were subject to standards that require caps, plugs, blind flanges, or second valves for open-ended lines.

The percentage of leaking open-ended lines at these refineries was not available because the NEIC inspectors monitored only a fraction of the open-ended lines in each process unit, and they did not record the total number of open-ended lines per process unit. To estimate the percentage leaking, we assumed the number leaking per process unit from the NEIC inspections represented the total number leaking for an average refinery process unit, and we divided this number by the estimated number of open-ended lines for an average process unit. Based on the impacts analysis for the proposed amendments to subparts VV and GGG, we estimated that 195 new or reconstructed refinery process units with equipment in volatile organic compound (VOC) service would become affected sources in the next 5 years. Information on the number of open-ended lines for different types of process units at large and small refineries (see EPA-454/R-98-011) was used to estimate a total of 7,349 open-ended lines in VOC service at these 195 process units. This would mean an average refinery process unit has 37.7 open-ended lines in VOC service, and 7.6 percent (2.86/37.7) are leaking.

To the best of our knowledge, the monitored open-ended lines that were found to be leaking were in gas/vapor service or light liquid service. Based on information about the type of service for valves, flanges, and pumps in refinery process units (see EPA-454/R-98-011) we estimated that 27 percent of open-ended lines in refinery process units are in heavy liquid service. The resulting estimate is that 10.4 percent (7.6/0.73) of refinery open-ended lines in gas/vapor or light liquid service are leaking. This estimate may understate the number of open-ended lines that are leaking (and the resulting emission reduction estimates) because the NEIC inspectors did not monitor all open-ended lines in each of the inspected processes, and it is unlikely that none of the unmonitored open-ended lines were leaking.

For the synthetic organic chemicals manufacturing industry (SOCMI), inspectors in EPA's Region V have monitored open-ended lines at six chemical manufacturing facilities. They found between 6 and 27 percent of all open-ended lines were leaking at greater than 500 ppm. The average was 12.6 percent leaking. However, the leak concentrations for the monitored open-ended lines at SOCMI sources were unavailable. Therefore, we decided to estimate SOCMI emissions using the same leak concentrations and overall leak frequency as for refineries. Since the overall percent leaking for refineries (10.4 percent) is lower than for SOCMI sources (12.6 percent), this approach results in worst-case cost-effectiveness estimates for SOCMI sources. As described for the refinery analysis, to the best of our knowledge, these leaks occurred from open-ended lines in gas/vapor service or light liquid service. Based on information from the Additional Information Document (see EPA-450/3-82-010) we estimated that 12 percent of open-ended lines in SOCMI process units are in heavy liquid service. We then divided the percent of total open-ended lines at refineries (i.e., 7.6 percent) by 0.88 to estimate that 8.6 percent of the open-ended lines in gas/vapor service and light liquid service at SOCMI sources are leaking.

To estimate the current emissions from leaking open-ended lines, we used the NEIC instrument readings in correlation equations for connectors and flanges (see Tables 2-9 and 2-10 in EPA-453/R-95-017). The equations for connectors and flanges were used because we expect that the openings through which VOC would be emitted around an improperly installed cap or plug would be more similar to the openings for connectors and flanges than an uncapped open-ended line. This procedure provided average emission rates per open-ended line (including non-leakers) for both refineries and SOCMI facilities. To estimate baseline nationwide emissions, we multiplied these average emission rates by the estimated number of open-ended lines in gas/vapor or light liquid service that will become affected facilities in the 5 years after proposal of the amendments. The estimated number of refinery and SOCMI process units, open-ended lines, and emissions in the fifth year after proposal are shown in Table 1 of this preamble.

Table 1.—National Fifth Year Estimates of the Number of Petroleum Refinery and SOCMI Process Units, Number of Open-Ended Lines, and Baseline Emissions
Type of source | Total number of process units | Total number of open-ended lines | Number of open-ended lines in gas/vapor or light liquid service | Current Emissions: kg/hr/OEL | Current Emissions: Nationwide Mg/yr
Refinery | 195 | 7,350 | 5,370 | 0.00047 | 22
SOCMI | 191 | 24,300 | 21,400 | 0.0028 | 520

The amount of emission reduction associated with monitoring will be a function of the monitoring frequency, how often the cap or plug on the open-ended line is opened, and the subsequent leak frequency for opened open-ended lines. In addition to the proposed annual monitoring frequency, the analysis also estimates impacts for semiannual, quarterly, and monthly monitoring. The opening frequency depends on the purpose of the open-ended line. Available data indicate that open-ended lines that are used for sampling represent about 20 percent of all open-ended lines at refineries. These open-ended lines are likely opened more frequently than open-ended lines that serve other functions. For this analysis, we assumed that these open-ended lines are opened once per month. Other open-ended lines that are used for purging, venting, and draining are likely opened much less frequently than open-ended lines that are part of sampling connection systems. Some may be opened only when the process unit is being shut down. For this analysis we assumed that the 80 percent of open-ended lines used for these purposes are evenly distributed among those that are opened quarterly, semiannually, and annually because data from refineries or SOCMI sources are unavailable. We also assumed the 20/80 split applies to SOCMI sources as well as refineries.

The subsequent leak frequency is due primarily to the care and technique of the operator installing the cap or other control equipment. Properly installed, there should be no leak. For this analysis, we assumed that operators would continue to install caps and other control equipment in the same manner that they currently use. This means that for any open-ended lines that are opened between monitoring events, we would expect the subsequent leak frequency to equal the baseline leak frequency, regardless of the amount of time since the previous monitoring event or the monitoring frequency. The impact of these assumptions on the percentage emission reductions for each of the different opening frequencies and monitoring intervals is described in the analysis. The estimated overall percent reductions and total mass reductions for each of the four monitoring scenarios in the fifth year after proposal of the amendments are shown in Tables 2 and 3 of this preamble for petroleum refineries and SOCMI sources, respectively.

The cost impacts analysis includes estimated initial costs and annual costs. The initial costs include costs for identifying and integrating open-ended lines into the monitoring program, initial monitoring, and repair of initial leakers. Annual costs include capital recovery for initial costs, periodic monitoring costs, costs to repair leaking equipment, and additional time to prepare semiannual reports. Unit costs for initial setup and monitoring and annual monitoring were assumed to be the same as for other types of equipment. These costs were estimated only for open-ended lines in gas/vapor or light liquid service because, as noted above, essentially all of the leaking open-ended lines are likely in these services. Repair costs were estimated assuming all of the leaks can be repaired online in an average of 10 minutes by relatively simple techniques such as tightening the valve, replacing a worn plug, or reinstalling a cap properly. Labor rates and overhead factors were assumed to be the same as in the earlier analysis of impacts for the proposed changes in the leak definitions for pumps and valves. One hour was added to the time to prepare each semiannual report. We expect that the additional reporting burden will be minimal because only the total number of leaks and the number for which repair is delayed would have to be reported. The impacts analysis also includes a recovery credit for the material that is not emitted. As in the earlier impacts analysis, these credits are $600/megagrams (Mg) for emission reductions at petroleum refineries and $900/Mg for emission reductions at SOCMI facilities.

The estimated initial costs, total annual costs, and cost-effectiveness of each option are shown in Tables 2 and 3 of this preamble for refinery and SOCMI process units, respectively. Note that the recovery credit for two of the four scenarios in the SOCMI analysis exceeds the total annual cost, but it does not in the refinery analysis. This difference in the results is due primarily to the difference in the correlation equations for the two industries. For a given screening value, the equation for SOCMI facilities estimates much higher emissions than the equation for refineries.

Table 2.—National Fifth Year Impacts of Monitoring Options for Open-Ended Lines in Refinery Process Units
Monitoring frequency | Emission Reductions: Percent | Emission Reductions: Mg/yr | Initial costs (1000 $) | Total Annual Costs (1000 $/yr): Without recovery credit | Total Annual Costs (1000 $/yr): With recovery credit | Cost-Effectiveness ($/Mg): Overall | Cost-Effectiveness ($/Mg): Incremental
Annually | 24 | 5.3 | 102 | 37 | 34 | 6,500 |
Semiannually | 42 | 9.1 | 102 | 51 | 46 | 5,000 | 3,000
Quarterly | 60 | 13 | 102 | 75 | 67 | 5,100 | 5,200
Monthly | 82 | 18 | 102 | 150 | 140 | 7,800 | 15,000

Table 3.—National Fifth Year Impacts of Monitoring Options for Open-Ended Lines in SOCMI Process Units
Monitoring frequency | Emission Reductions: Percent | Emission Reductions: Mg/yr | Initial costs (1000 $) | Total Annual Costs (1000 $/yr): Without recovery credit | Total Annual Costs (1000 $/yr): With recovery credit | Cost-Effectiveness ($/Mg): Overall | Cost-Effectiveness ($/Mg): Incremental
Annually | 24 | 120 | 400 | 120 | 11 | 87 |
Semiannually | 42 | 220 | 400 | 170 | (20) | (93) | (340)
Quarterly | 60 | 310 | 400 | 260 | (18) | (57) | 25
Monthly | 82 | 430 | 400 | 560 | 180 | 420 | 1,700

C. What additional supporting data or documentation do I need to provide with my comments?

The EPA is soliciting comment on the new monitoring data and on all aspects of the procedures and assumptions used in the impacts analysis. We are specifically requesting data and comment on the following items:

• Additional monitoring data for open-ended lines, particularly any data that show open-ended lines in heavy liquid service that have been found to leak at greater than 500 ppm.

• Data on the percentage of open-ended lines in heavy liquid service.

• The appropriateness of using correlation equations for connectors and flanges to estimate emissions from improperly capped and plugged open-ended lines.

• Data on how often open-ended lines in different applications are opened.

• A description of the types of activities needed to repair leaking open-ended lines, and estimates of the time needed to perform such repairs.

Timely comments on these subjects will be taken into account in developing the final impacts analysis and in EPA's final action on the proposed amendments.

List of Subjects for 40 CFR Part 63

Environmental protection, Air pollution control, Hazardous substances, Intergovernmental relations, Reporting and recordkeeping requirements.

Dated: June 27, 2007.
Stephen D. Page,
Director, Office of Air Quality Planning and Standards.

[FR Doc. E7-13203 Filed 7-6-07; 8:45 am]

BILLING CODE 6560-50-P